FEDERAL COMMUNICATIONS COMMISSION

47 CFR Part 73

[MB Docket No. 12-225; RM-11668; DA 13-92]

Radio Broadcasting Services; Greenup, IL

AGENCY: Federal Communications Commission.

ACTION: Final rule.

SUMMARY: In this document the Audio Division, at the request of Word Power, Inc., allots a first local service to Greenup, Illinois, and reserves Channel *230A at Greenup for noncommercial educational use. A staff engineering analysis confirms that Channel *230A at Greenup would provide a first and/or second NCE radio service to 67.5 percent (21,149 persons) of the total population of 31,338 persons. Channel *230A can be allotted to Greenup consistent with the distance separation requirements of Section 73.207 of the Commission's rules with a site restriction 4.6 kilometers (2.9 miles) southwest of the community. The reference coordinates for Channel *230A are 39-12-38 NL and 88-11-15 WL.

DATES: Effective March 11, 2013.

FOR FURTHER INFORMATION CONTACT: Rolanda F. Smith, Media Bureau, (202) 418-2700.

SUPPLEMENTARY INFORMATION: This is a synopsis of the Commission's Report and Order, adopted January 24, 2013, and released January 25, 2013. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Illinois, is amended by adding Greenup, Channel *230A.

[FR Doc. 2013-04169 Filed 2-22-13; 8:45 am]

BILLING CODE 6712-01-P